DEPARTMENT OF AGRICULTURE

Forest Service

Buick Vegetation Management Environmental Assessment, Deschutes National Forest, Deschutes County, Oregon

AGENCY: Forest Service, USDA.

ACTION: Notice of availability.

SUMMARY: The Environmental Assessment for the Buick Vegetation Management project is available for review and comment. This project analyzes 33,505 acres of National Forest lands within General Forest, Deer Habitat, Scenic Views and Old Growth Management Area. The objective of the project is to begin the process of creating forest conditions that are resilient and resistant to disturbances, maintain and enhance wildlife habitat, visual integrity, and historic forest characteristics. The project would also amend the boundaries of two Old Growth Areas within the Old Growth Management Area allocation of the Deschutes National Forest Land and Resource Management Plan. The Buick Vegetation Management project area is located about 35 miles south of Bend, Oregon, and 17 miles east of La Pine, Oregon.

The Environmental Assessment is available upon request from the Bend/Ft. Rock Ranger District, 1230 NE Third St., Suite 262-A, Bend, OR, 97701; at the Deschutes National Forest Supervisor's Office, 1645 Highway 20 East, Bend, Oregon; and at the Deschutes National Forest website at www.fs.fed.us/r6/deschutes.

Written comments should be addressed to Walter C. Schloer, District Ranger, 1230 NE Third St., Suite 262-A, Bend, OR 97701. Comments can also be sent by email to dfrantz@fs.fed.us. Written or oral comments should include your name, address, and telephone number. Please include the title of the document; specific facts or comments, and supporting reasons for your comments.

DATES: Please submit comments within 30 days of Wednesday, May 9, 2001, which is the publication date of the legal notice of availability in The Bulletin newspaper, Bend, Oregon.

FOR FURTHER INFORMATION CONTACT: For Further information, contact David Frantz, Bend/Ft. Rock Ranger District, 1230 NE Third St., Suite 262-A, Bend, OR, or phone (541) 383-4721.

Dated: April 27, 2001.
Becki Heath,
Acting Forest Supervisor.

[FR Doc. 01-11511 Filed 5-7-01; 8:45 am]

BILLING CODE 3410-11-M